COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products from the Procurement List previously furnished by nonprofit agencies employing persons who are blind or have other severe disabilities.

DATES: Date added to the Procurement List: February 11, 2018.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Deletions

On 12/8/2017 (82 FR 235), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSNs—Product Names:

7510-00-NIB-1784—Portfolio Pad Holder, with Pad, Custom Logo & Color, 4″ x 6″

7510-00-NIB-1785—Portfolio Pad Holder, with pad, Custom Logo & Color, 6″ x 9″

Mandatory Source of Supply: Alphapointe, Kansas City, MO

Contracting Activity: General Services Administration, New York, NY

NSNs—Product Names:

7510-01-642-8626—Kit, Maintenance, Remanufactured, Toner Cartridge, Lexmark T620/620N Series Compatible

7510-01-633-7855—Toner Cartridge, Remanufactured, Lexmark E230/E232/E234/E330/E332/E340/E342 Series Compatible

7510-01-633-7853—Toner Cartridge, Remanufactured, Lexmark Optra T620/T622 Series Compatible

7510-01-641-9550—Toner Cartridge, Remanufactured Lexmark Optra T630/T632/T634 Series Compatible

7510-01-560-6576—Remanufactured HP LJ Toner Cartridge—OEM C3909A

7510-01-560-6233—Remanufactured HP LJ Toner Cartridge—OEM C7115X

Mandatory Source of Supply: TRI Industries NFP, Vernon Hills, IL

Contracting Activity: General Services Administration, New York, NY

Patricia Briscoe,
Deputy Director, Business Operations, Pricing and Information Management.

[FR Doc. 2018-00422 Filed 1-11-18; 8:45 am]

BILLING CODE 6353-01-P